DEPARTMENT OF LABOR

Employment and Training Administration

Notice of Determinations Regarding Eligibility To Apply for Worker Adjustment Assistance and NAFTA Transitional Adjustment Assistance

In accordance with section 223 of the Trade Act of 1974, as amended, the Department of Labor herein presents summaries of determinations regarding eligibility to apply for trade adjustment assistance for workers (TA-W) issued during the period of November, 2001.

In order for an affirmative determination to be made and a certification of eligibility to apply for worker adjustment assistance to be issued, each of the group eligibility requirements of section 222 of the Act must be met.

(1) That a significant number or proportion of the workers in the workers' firm, or an appropriate subdivision thereof, have become totally or partially separated,

(2) That sales or production, or both, of the firm or subdivision have decreased absolutely, and

(3) That increases of imports of articles like or directly competitive with articles produced by the firm or appropriate subdivision have contributed importantly to the separations, or threat thereof, and to the absolute decline in sales or production.

Negative Determination for Worker Adjustment Assistance

In each of the following cases the investigation revealed that criterion (3) has not been met. A survey of customers indicated that increased imports did not contribute importantly to worker separations at the firm.

TA-W-39,127; Trumark, Inc., Lansing, MI

TA-W-40,252; Blue Ridge Textile Printers, Statesville, NC

TA-W-39,347; Capco Machinery Systems, Inc., Roanoke, VA

TA-W-39,840; Mini Lace, Inc., Hialeah, FL

TA-W-39,866; Halsey Drug Co., Inc., Brooklyn, NY

TA-W-39,446; Morgan Machine Co, Fulton, MO

TA-W-39,118, TKG International Corp., Macon GA

In the following cases, the investigation revealed that the criteria for eligibility have not been met for the reasons specified.

Increased imports did not contribute importantly to worker separations at the firm.

TA-W-40,164; Rayovac Portage Plant, Portage, WI

TA-W-39,842; Dallas Semiconductor, Dallas, TX

TA-W-40,086; Mail Well Envelope Co., Portland, OR

TA-W-39,099; ABC Rail, Calera, AL

TA-W-39,725; General Mills, Snacks Div., Carlisle, PA

TA-W-40,094; Heraeus Quartztech, Buford, GA

The workers firm does not produce an article as required for certification under section 222 of the Trade Act of 1974.

TA-W-40,002; PDS Railcar Services, Port Huron, MI

TA-W-40,318; Private Manufacturing, Inc., El Paso, TX

TA-W-39,781; American Components, Inc., Research and Development, Dandridge, TN

Affirmative Determinations for Worker Adjustment Assistance

The following certifications have been issued; the date following the company name and location of each determination references the impact date for all workers of such determination.

TA-W-39,404; Empire Specialty Steel, Inc., Formerly Known as Al Tech Specialty Steel, Dunkirk, NY: June 19, 2001.

TA-W-39,879; Northwest Wood Products, Inc., Kettle Falls, WA: August 7, 2000.

TA-W-39,444; Kennecott Utah Copper Corp., Utah Mining Division, Bingham Canyon, UT: June 1, 2000.

TA-W-39,587; Grote Industries, LLC, Madison, IN: June 15, 2000.

TA-W-40,155; Burle Industries, Inc., Lancaster, PA: September 26, 2000.

TA-W-39,875; Maida Development Co., Hampton, VA: August 9, 2000.

TA-W-39,122; J and L Specialty Steel, Inc., Midland, PA: April 11, 2000.

TA-W-40,112; Loparex, West Chicago, IL: September 18, 2000.

TA-W-39,415; Tyco International, White City, OR: May 22, 2000.

TA-W-39,521; Kleinert's, Inc., Elba, AL: April 1, 2001.

TA-W-40,105; CTS Reeves, Frequency Products, Sandwich, IL: August 21, 2000.

TA-W-40,144; Pea Ridge Iron Ore Co., Sullivan, MO: September 14, 2000.

TA-W-40,102; Joplin Manufacturing, Inc., Joplin, MO: September 3, 2000.

TA-W-39,884; VF Playwear, Inc., Centerville, AL: August 2, 2000.

TA-W-40,051 & A; Prime Tanning, Rochester, NH and Berwick, ME: September 4, 2000.

TA-W-40,134 & A; Commodore Hat, New York, New York and Adamstown, PA: September 5, 2000.

TA-W-40,214; Intermetro Industries, Wilkes Barre, PA: September 28, 2000.

TA-W-39,949; Eaton Corp., Shelbyville, TN: August 13, 2000.

TA-W-40,008; Summit Circuits, Inc., Fort Wayne, IN: August 28, 2000.

TA-W-39,818; CMI Industries, Inc., Clarksville Plant Including Workers of Defender Services, Inc., Clarksville, GA: July 27, 2000.

TA-W-39,851; Barko Hydraulics, LLC, Superior, WI: August 2, 2000.

TA-W-39,736, A & B; Air-Way Manufacturing Co., Plant #1, Olivet, MI, Plant #2, Olivet, MI and Edgerton, OH: July 21, 2000.

Also, pursuant to Title V of the North American Free Trade Agreement Implementation Act (P.L. 103-182) concerning transitional adjustment assistance hereinafter called (NAFTA-TAA) and in accordance with section 250(a), Subchapter D, Chapter 2, Title II, of the Trade Act as amended, the Department of Labor presents summaries of determinations regarding eligibility to apply for NAFTA-TAA issued during the month of November, 2001.

In order for an affirmative determination to be made and a certification of eligibility to apply for NAFTA-TAA the following group eligibility requirements of Section 250 of the Trade Act must be met:

(1) That a significant number or proportion of the workers in the workers' firm, or an appropriate subdivision thereof, (including workers in any agricultural firm or appropriate subdivision thereof) have become totally or partially separated from employment and either—

(2) that sales or production, or both, of such firm or subdivision have decreased absolutely,

(3) that imports from Mexico or Canada of articles like or directly competitive with articles produced by such firm or subdivision have increased, and that the increases imports contributed importantly to such workers' separations or threat of separation and to the decline in sales or production of such firm or subdivision; or

(4) That there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA-TAA-04768; Trumark, Inc., Lansing, MI

NAFTA-TAA-05331; Rayovac, Portage Plant, Portage, WI

NAFTA-TAA-05033; Blue Ridge Textile Printers, Statesville, NC

NAFTA-TAA-05369; Garan Manufacturing, Ozark, AR

NAFTA-TAA-05250; Motorola, Atlanta Order Fulfillment Center (AOFC), Suwanee, GA

NAFTA-TAA-05463; C-Mac Quartz Crystals, Inc., div. Of C-Mac of America, Mechanicsburg, PA

NAFTA-TAA-04935; Tyco International, White City, OR

NAFTA-TAA-04674; SLI Product Lighting, Mullins, SC

NAFTA-TAA-05449; Ruppe Hosiery, Inc., Kings Mountain, NC

The workers firm does not produce an article as required for certification under section 250(a), Subchapter D, Chapter 2, Title II, of the Trade Act of 1974, as amended.

NAFTA-TAA-05390; General Electric Capital, Card Services, Bloomington, MN

NAFTA-TAA-05290; PDS Railcar Services, Port Huron, MI

NAFTA-TAA-05457; Private Manufacturing, Inc., El Paso, TX

Affirmative Determinations NAFTA-TAA

NAFTA-TAA-05408; VF Imagewear (West), Inc., Wartburg, TN: October 5, 2000

NAFTA-TAA-05407; VF Imagewear (West), Inc., Lillington, NC: October 8, 2000

NAFTA-TAA-05168; CMI Industries, Inc., Clarksville Plant, Clinton Fabrics Div., Clarksville, GA: July 24, 2000

NAFTA-TAA-05254; Barko Hydraulics, LLC, Superior, WI: August 2, 2000

NAFTA-TAA-05186; Lancer Partnership, Ltd, Screw Machine Department, San Antonio, TX: July 27, 2001.

I hereby certify that the aforementioned determinations were issued during the month of November, 2001. Copies of these determinations are available for inspection in Room C-5311, U.S. Department of Labor, 200 Constitution Avenue, NW., Washington, DC 20210 during normal business hours or will be mailed to persons who write to the above address.

Dated: November 13, 2001.
Edward A. Tomchick,
Director, Division of, Trade Adjustment Assistance.

[FR Doc. 01-28976 Filed 11-19-01; 8:45 am]

BILLING CODE 4510-30-M